SMALL BUSINESS ADMINISTRATION

[Declaration of Disaster #3624]

State of Alabama; Amendment #2

In accordance with notices received from the Department of Homeland Security—Federal Emergency Management Agency—effective September 30 and October 4, 2004, the above numbered declaration is hereby amended to establish the incident period as beginning September 13, 2004 and continuing through September 30, 2004. The declaration is also amended to include Chambers, Colbert, DeKalb, Henry, Houston, Jackson, Lauderdale, Limestone, Madison, Morgan, Randolph, and Russell as disaster areas due to damages caused by Hurricane Ivan.

In addition, applications for economic injury loans from small businesses located in the contiguous counties of Carroll, Chatahoochie, Chattooga, Dade, Early, Heard, Seminole, Troup, and Walker in the State of Georgia; and Franklin, Hardin, Giles, Lawrence, Lincoln, Marion, and Wayne Counties in the State of Tennessee may be filed until the specified date at the previously designated location. All other counties contiguous to the above named primary counties have previously been declared. In addition, Autauga, Baldwin, Bibb, Butler, Chilton, Choctaw, Clarke, Coffee, Conecuh, Coosa, Covington, Crenshaw, Dallas, Elmore, Escambia, Geneva, Greene, Hale, Jefferson, Lowndes, Marengo, Mobile, Monroe, Montgomery, Perry, Pickens, Shelby, Sumter, Talladega, Tuscaloosa, Washington, and Wilcox Counties in the State of Alabama are also eligible under Public Assistance and our disaster loan program is available for private non-profit organizations that provide essential services of a governmental nature in those counties.

The economic injury disaster number assigned to Tennessee is 9AE400 and the Public Assistance number assigned to Alabama is P06208.

All other information remains the same, i.e., the deadline for filing applications for physical damage is November 15, 2004 and for economic injury the deadline is June 15, 2005.

(Catalog of Federal Domestic Assistance Program Nos. 59002 and 59008).
Dated: October 6, 2004.
Herbert L. Mitchell,
Associate Administrator for Disaster Assistance.

[FR Doc. 04-23139 Filed 10-14-04; 8:45 am]

BILLING CODE 8025-01-P